FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Reporting, Recordkeeping, and Disclosure Requirements Associated with Regulation LL (FR LL; OMB No. 7100-0380).

DATES: Comments must be submitted on or before November 27, 2023.

ADDRESSES: You may submit comments, identified by FR LL, by any of the following methods:

• Agency website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays, except for Federal holidays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/home/review or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Reporting, Recordkeeping, and Disclosure Requirements Associated with Regulation LL.

Collection identifier: FR LL.

OMB control number: 7100-0380.

General description of collection: Regulation LL—Savings and Loan Holding Companies (12 CFR part 238) requires certain large savings and loan holding companies (SLHCs) to submit a capital plan to the Board on an annual basis, request prior approval from the Board under certain circumstances before making a capital distribution, conduct company-run periodic stress tests, report the results of its company-run stress tests to the Board, publicly disclose a summary of the results of such stress tests, and comply with certain other reporting and recordkeeping requirements. Capital is central to a firm's ability to absorb unexpected losses and continue to lend to creditworthy businesses and consumers. The Board's capital planning requirements for large bank holding companies help to ensure that these firms have robust systems and processes that incorporate forward-looking projections of revenue and losses to monitor and maintain their internal capital adequacy. The Board's stress testing and stress capital buffer requirements help ensure that a firm can meet its obligations to creditors and other counterparties, as well as continue to serve as a financial intermediary through periods of financial and economic stress.

Proposed revisions: The Board is proposing to revise the FR LL to account for several reporting provisions and one recordkeeping provision which have not been previously cleared by the Board under the PRA.

Reporting Requirements

Section 238.132(c)(2)(i) provides that the Board may conduct a stress test on an SLHC (other than an foreign banking organization) with average total consolidated assets of $100 billion or more on a more or less frequent basis than would be required under paragraph (c)(1). Section 238.132(c)(3)(iii) permits an SLHC to request in writing that the Board reconsider the requirement to conduct a stress test on a more or less frequent basis than would be required under (c)(1). This request must include an explanation as to why the request for reconsideration should be granted. The Board will respond in writing within 14 calendar days of receipt of the request. This request would be submitted via the Federal Reserve's IntraLinks system.

Section 238.143(a)(3)(ii) permits a Category II SLHC, Category III SLHC, or a SLHC with average total consolidated assets of greater than $250 billion to request in writing that the Board reconsider the requirement to conduct a stress test on a more or less frequent basis than would be required under paragraph (a)(2)(i). This request must include an explanation as to why the request for reconsideration should be granted. The Board will respond in writing within 14 calendar days of receipt of the request. This request would be submitted via the Federal Reserve's IntraLinks system.

Section 238.143(b)(4) provides that if the Board requires a Category II SLHC, Category III SLHC, or a SLHC with average total consolidated assets of greater than $250 billion to include one or more additional components in certain of its stress testing scenarios the Board will notify the company in writing and include a basis for its determination. Within 14 calendar days of receipt of this notification the company may request in writing that the Board reconsider the requirement that company include the additional component(s) or additional scenario(s), including an explanation as to why the request for reconsideration should be granted. The Board will respond in writing within 14 calendar days of receipt of the company's request. This request would be submitted via the Federal Reserve's IntraLinks system.

Recordkeeping Requirements

Section 238.144(c)(1) requires a Category II SLHC, Category III SLHC, or a SLHC with average total consolidated assets of greater than $250 billion to establish and maintain a system of controls, oversight, and documentation, including policies and procedures, that are designed to ensure that its stress testing processes are effective in meeting the relevant requirements. These policies and procedures must, at a minimum, describe the covered company's stress testing practices and methodologies, and processes for validating and updating the company's stress test practices and methodologies consistent with applicable laws and regulations.

Frequency: Ongoing, annual, bi-annual, or event-generated.

Respondents: Foreign SLHCs with average total consolidated assets of greater than $250 billion and domestic covered SLHCs with average total consolidated assets of greater than $100 billion.

Total estimated number of respondents: 1.

Total estimated change in burden: 31.

Total estimated annual burden hours: 14,430.¹

¹ More detailed information regarding this collection, including more detailed burden estimates, can be found in the OMB Supporting Statement posted at https://www.federalreserve.gov/apps/reportingforms/home/review. On the page displayed at the link, you can find the OMB Supporting Statement by referencing the collection identifier, FR LL.

Board of Governors of the Federal Reserve System, September 22, 2023.
Erin M. Cayce,
Assistant Secretary of the Board.

[FR Doc. 2023-21160 Filed 9-27-23; 8:45 am]

BILLING CODE 6210-01-P